OFFICE OF THE UNITED STATES TRADE REPRESENTATIVE

Generalized System of Preferences (GSP): Notice Regarding the 2008 Annual Review for Acceptance of Product and Country Practices Petitions

AGENCY: Office of the United States Trade Representative.

ACTION: Notice.

SUMMARY: The Office of the United States Trade Representative (USTR) received petitions in connection with the 2008 GSP Annual Review to modify the list of products that are eligible for duty-free treatment under the GSP program and to modify the GSP status of certain GSP beneficiary developing countries because of country practices. This notice announces the product petitions, other than those requesting competitive need limitation (CNL) waivers, and country practice petitions accepted in previous GSP annual reviews that continue to be under review in the 2008 GSP Annual Review, and sets forth the schedule for comment and public hearings on these petitions, for requesting participation in the hearings, and for submitting pre-hearing and post-hearing briefs. The list of accepted petitions is available at: http://www.ustr.gov/Trade_Development/Preference_Programs/GSP/Section_Index.html. [2008 Annual review].

FOR FURTHER INFORMATION CONTACT: Regina Teeter, GSP Program, Office of the United States Trade Representative, 1724 F Street, NW., Room F-214, Washington, DC 20508. The telephone number is (202) 395-6971, fax number is (202) 395-9481, and e-mail address is Regina_Teeter@ustr.eop.gov.

DATES: The GSP regulations (15 CFR Part 2007) provide the schedule of dates for conducting an annual review unless otherwise specified in a Federal Register notice. The schedule for the 2008 annual review is set forth below. Notification of any other changes will be given in the Federal Register.

October 3, 2008—Due date for submission of pre-hearing briefs and requests to appear at the GSP Subcommittee Public Hearing that include the name, address, telephone, fax, email address and organization of witnesses for accepted product petitions.

October 10, 2008—Availability of January through August 2008 data on the U.S. International Trade Commission (USITC) Web site (http://dataweb.usitc.gov). The Federal Register notice announcing the availability of eight months of import statistics will not include a “warning list” of products that may exceed statutory competitive need limitations (CNLs). Each interested party is responsible for conducting its own review of 2008 import data with regard to the possible application of GSP CNLs and submission of a petition to waive the CNLs.

October 20, 2008—GSP Subcommittee Public Hearing on all product petitions accepted for the 2008 GSP Annual Review in Rooms 1 and 2, 1724 F St., NW., Washington, DC 20508, beginning at 9:30 a.m.

November 3, 2008—Due date for submission of post-hearing briefs.

November 13, 2008—Due date for submission of new petitions to grant waivers to CNLs for products exceeding the CNLs in 2008.

December 2008—USITC scheduled to publish report on products for product petitions in the 2008 GSP Annual Review. Comments on USITC report on these products due 10 calendar days after USITC date of publication.

June 30, 2009—Modifications to the list of articles eligible for duty-free treatment under the GSP resulting from the 2008 Annual Review will be announced on or about June 30, 2009, in the Federal Register, and any changes will take effect on the effective date announced.

SUPPLEMENTARY INFORMATION: The GSP provides for the duty-free importation of designated articles when imported from designated beneficiary developing countries. The GSP is authorized by title V of the Trade Act of 1974 (19 U.S.C. 2461, et seq.), as amended (the “1974 Act”), and is implemented in accordance with Executive Order 11888 of November 24, 1975, as modified by subsequent Executive Orders and Presidential Proclamations.

A. Petitions Requesting Modifications of Product Eligibility

In a Federal Register notice dated May 15, 2008, USTR announced that the deadline for the filing of product petitions, other than those requesting waivers of “competitive need limitations” (CNLs), and country practice petitions for the 2008 GSP Annual Review was June 18, 2008 (73 FR 28174). The deadline for the filing of product petitions requesting waivers of the CNLs was announced to be November 13, 2008. The product petitions received have requested changes in the list of GSP-eligible products by adding new products and by removing products from specific GSP-eligible countries.

The interagency GSP Subcommittee of the Trade Policy Staff Committee (TPSC) has reviewed the product petitions, and the TPSC has decided to accept for review the product petitions listed in “List of Petitions Accepted in the 2008 GSP Annual Review” posted on the USTR Web site. That list sets forth, for each type of change requested: the case number, the Harmonized Tariff Schedule of the United States (HTS) subheading number, a brief description of the product (see the HTS for an authoritative description available on the U.S. International Trade Commission (USITC) Web site (http://www.usitc.gov/tata/hts/)), and the petitioner for each petition included in this review. Acceptance of a petition for review does not indicate any opinion with respect to the disposition on the merits of the petition. Acceptance indicates only that the listed petitions have been found eligible for review by the TPSC and that such review will take place.

B. Petitions for Review Regarding Country Practices

Pursuant to 15 CFR 2007.0(b), the GSP Subcommittee of the Trade Policy Staff Committee (TPSC) has recommended, and the TPSC has continued the review of several country practice petitions (see “List of Petitions Accepted in the 2008 GSP Annual Review” posted on the USTR Web site). The decision regarding whether to accept the new country practice petitions submitted for review in the 2008 GSP Annual Review is planned for January 2009. A Federal Register notice will be published announcing the decision.

Opportunities for Public Comment and Inspection of Comments

The GSP Subcommittee of the TPSC invites comments in support of or in opposition to any petition which has been accepted thus far for the 2008 GSP Annual Review. Submissions should comply with 15 CFR Part 2007, except as modified below. All submissions should identify the subject article(s) in terms of the case number and eight digit HTSUS subheading number, if applicable, as shown in the “List of Petitions Accepted in the 2008 GSP Annual Review” available at: http://www.ustr.gov/Trade_Development/Preference_Programs/GSP/Section_Index.html [2008 Annual Review].

Requirements for Submissions

Comments must be submitted, in English, to the Chairman of the GSP Subcommittee of the Trade Policy Staff Committee (TPSC) on the deadlines set forth in this notice.

In order to facilitate prompt processing of submissions, USTR strongly recommends that comments be set out in digital files attached to e-mails transmitted to the following address: FR0807@ustr.eop.gov (Note: The digit before the number “8” in the email address is the number “zero”, not a letter. If you are unable to provide comments by e-mail, please contact Regina Teeter at USTR's GSP Office at (202) 395-6971 to arrange for an alternative method of transmission. For security reasons, hand-delivered submissions will not be accepted. Comments should be provided in a single copy and must not exceed 30 single-spaced standard letter-size pages in 12-point type and three megabytes as a digital file attached to an e-mail transmission. E-mails should use the following subject line: “2008 GSP Annual Review” followed by the Case Number and, if a product petition, the eight digit HTSUS subheading number found in the “List of Petitions Accepted in the 2008 GSP Annual Review” (for example, 2008-05 7202.99.20) and, as appropriate “Written Comments”, “Notice of Intent To Testify”, “Pre-hearing brief”, “Post-hearing brief” or “Comments on USITC Advice”. (For example, an e-mail subject line might read “2008-05 7202.99.20 Written Comments”.) The transmittal message or cover letter accompanying a submission must be set out exclusively in the digital file attached to the e-mail transmission—not in the message portion of the e-mail—and must include the sender's name, organization name, address, telephone and fax numbers, and e-mail address.

Digital files must be submitted in one of the following formats: WordPerfect (.WPD), Adobe (.PDF), MSWord (.DOC), or text (.TXT) files. Comments may not be submitted as electronic image files or contain embedded images, e.g., “.JPG”, “.TIF”, “.BMP”, or “.GIF”. Spreadsheet data may be submitted as Excel files, formatted for printing on 8½ x 11 inch paper. To the extent possible, any data accompanying the submission should be included in the same file as the submission itself, and not in a separate file.

If the submission contains business confidential information that the submitter wishes to protect from public disclosure, the confidential version must be marked “BUSINESS CONFIDENTIAL” at the top and bottom of each page. In addition, the submission must be accompanied by a non-confidential version that indicates, with asterisks, where confidential information was redacted or deleted. The top and bottom of each page of the non-confidential version must be marked either “PUBLIC VERSION” or “NON-CONFIDENTIAL”. Business confidential comments that are submitted without the required markings or are not accompanied by a properly marked non-confidential version as set forth above may not be accepted or may be treated as public documents.

The digital file name assigned to any business confidential version of a submission should begin with the characters “BC-”, and the file name of the public version should begin with the characters “P-”. The “P-” or “BC-” should be followed by the name of the person (government, company, union, association, etc.) making the submission.

Public versions of all documents relating to this review will be available for review approximately two weeks after the relevant due date by appointment in the USTR public reading room, 1724 F Street, NW., Washington, DC. Appointments may be made from 9:30 a.m. to noon and 1 p.m. to 4 p.m. Monday through Friday, by calling (202) 395-6186.

Notice of Public Hearing

A hearing will be held by the GSP Subcommittee of the TPSC on October 20, 2008, for product petitions accepted for the 2008 GSP Annual Review (i.e., for product petitions other than those requesting CNL waivers) beginning at 9:30 a.m. at the Office of the U.S. Trade Representative, Rooms 1 and 2, 1724 F St., NW., Washington, DC 20508. The hearing will be open to the public and a transcript of the hearing will be made available for public inspection or can be purchased from the reporting company. No electronic media coverage will be allowed.

All interested parties wishing to make an oral presentation at the hearing must submit, following the above “Requirements for Submissions”, the name, address, telephone number, facsimile number, and e-mail address (if available), of the witness(es) representing their organization to Marideth Sandler, Executive Director of the GSP Program by 5 p.m., October 3, 2008. Requests to present oral testimony in connection with the public hearing must be accompanied by a written brief or statement, in English, and also must be received by 5 p.m., October 3, 2008. Oral testimony before the GSP Subcommittee will be limited to five-minute presentations that summarize or supplement information contained in briefs or statements submitted for the record. Post-hearing briefs or statements will be accepted if they conform with the regulations cited above and are submitted, in English, by 5 p.m., November 3, 2008. Parties not wishing to appear at the public hearing may submit pre-hearing briefs or statements, in English, by 5 p.m., October 3, 2008, and post-hearing written briefs or statements, in English, by 5 p.m., November 3, 2008.

With respect to petitions to add or remove articles from the “List of Product Petitions Accepted in the 2008 GSP Annual Review,” and in accordance with sections 503(d)(1)(A) of the 1974 Act and the authority delegated by the President, pursuant to section 332(g) of the Tariff Act of 1930, the U.S. Trade Representative has requested that the USITC provide its advice on the probable economic effect of such additions or removals on U.S. industries producing like or directly competitive articles and on consumers. Comments by interested persons on the USITC Report prepared as part of the product review other than those requesting CNL waivers should be submitted by 5 p.m., 10 calendar days after the date of USITC publication of its report.

Marideth Sandler,
Executive Director, Generalized System of Preferences (GSP) Program, Office of the U.S. Trade Representative.

[FR Doc. E8-21341 Filed 9-11-08; 8:45 am]

BILLING CODE 3190-W8-P